DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: National Evaluation of the Comprehensive Community Mental Health Services for Children and Their Families Program: Phase IV—(OMB No. 0930-0257)—Revision

The Substance Abuse and Mental Health Services Administration (SAMHSA), Center of Mental Health is responsible for the national evaluation of the Comprehensive Community Mental Health Services for Children and Their Families Program that will collect data on child mental health outcomes, family life, and service system development and performance.

The national evaluation of the Comprehensive Community Mental Health Services for Children and Their Families Program will collect data on child mental health outcomes, family life, and service system development and performance. Data will be collected on 27 service systems, and roughly 5922 children and families. Data collection for this evaluation is conducted over a five-year period. The core of service system data will be collected every 18 months throughout the 5-year evaluation period, with a sustainability survey conducted in selected years. Service delivery and system variables of interest include the following: Maturity of system of care development, adherence to the system of care program model, and client service experience. The length of time that individual families will participate in the study ranges from 18 to 36 months depending on when they enter the evaluation. Child and family outcomes of interest will be collected at intake and during subsequent follow-up sessions at six-month intervals. The outcome measures include the following: child symptomatology and functioning, family functioning, material resources, and caregiver strain. Time-limited studies addressing the cultural competence of services and the role of primary care providers in systems of care will be conducted at selected points during the evaluation period. Internet-based technology will be used for collecting data via Web-based surveys and for data entry and management. The average annual respondent burden is estimated below for the final three years of data collection. The estimate reflects the average number of respondents in each respondent category, the average number of responses per respondent per year, the average length of time it will take for each response, and the total average annual burden for each category of respondent, and for all categories of respondents combined.

This revision to the currently approved information collection activities includes: (1) The addition of a Primary Care Study and (2) the addition of a Treatment Effectiveness Study. The Primary Care Study seeks to investigate the role of primary health care practitioners (PCPs) in systems of care and to further understand the impact of services provided within primary care on child and family outcomes. One goal of this study is to identify strategies that help primary care and mental health care providers to work together effectively. Another is to identify ways to integrate PCPs into systems of care. The treatment effectiveness study will examine the relative impact of community-based treatments focused within system of care sites. This study will focus on a community-based practice that has not accumulated research evidence, but rather through community-based implementation has accumulated practice-based evidence.

Instrument | Respondent | Number of respondents | Total average number of responses per respondent | Hours per response | Total burden hours
System of Care Assessment
Interview Guides and Data Collection Forms | Key site informants | ¹ 648 | 2 | 1.000 | 1296
Interagency Collaboration Scale (IACS) | Key site informants | 648 | 2 | 0.133 | 173
Caregiver Information Questionnaire (CIQ-IC) | Caregiver | ³ 5,922 | 1 | 0.283 | 1676
Caregiver Information Questionnaire Followup (CIQ-FC) | Caregiver | 5,922 | 3 | 0.200 | 3553
Caregiver Strain Questionnaire (CGSQ) | Caregiver | 5,922 | ⁵ 4 | 0.167 | 3956
Child Behavior Checklist (CBCL)/ Child Behavior Checklist 1½-5 (CBCL 1½-5) | Caregiver | 5,922 | 4 | 0.333 | 7888
Education Questionnaire—Revised (EQ-R) | Caregiver | 5,922 | 4 | 0.100 | 2369
Living Situations Questionnaire (LSQ) | Caregiver | 5,922 | 4 | 0.083 | 1966
The Family Life Questionnaire (FLQ) | Caregiver | 5,922 | 4 | 0.050 | 1184
Behavioral and Emotional Rating Scale—Second Edition, Parent Rating Scale (BERS-2C) | Caregiver | ⁶ 5,626 | 4 | 0.167 | 3758
Columbia Impairment Scale (CIS) | Caregiver | 5,922 | 4 | 0.083 | 1966
The Vineland Screener (VS) | Caregiver | ⁷ 2,369 | 4 | 0.250 | 2369
Delinquency Survey—Revised (DS) | Youth | ⁸ 3,553 | 4 | 0.167 | 2374
Behavioral and Emotional Rating Scale—Second Edition, Youth Rating Scale (BERS-2) | Youth | 3,553 | 4 | 0.167 | 2374
GAIN Quick—R: Substance Problem Scale (GAIN) | Youth | 3,553 | 4 | 0.083 | 1180
Substance Use Survey—Revised (SUS) | Youth | 3,553 | 4 | 0.100 | 1421
Revised Children's Manifest Anxiety Scales (RCMAS) | Youth | 3,553 | 4 | 0.050 | 711
Reynolds Adolescent Depression Scale—Second Edition (RADS-2) | Youth | 3,553 | 4 | 0.050 | 711
Youth information Questionnaire—Baseline (YIQ-I) | Youth | 3,553 | 1 | 0.167 | 593
Youth information Questionnaire—Follow-up (YIQ-F) | Youth | 3,553 | 3 | 0.167 | 1780
Service Experience Study
Multi-Sector Service Contacts—Revised (MSSC-RC) | Caregiver | 5,992 | ¹⁰ 3 | 0.250 | 4442
Cultural Competence and Service Provision Questionnaire (CCSP) | Caregiver | 5,992 | 3 | 0.167 | 2967
Youth Services Survey (YSS—F) | Caregiver | 5,922 | 3 | 0.117 | 2079
Cultural Competence Practices Study (Focus Groups—F) | Caregiver | 36 | 1 | 1.500 | 54
Youth Services Survey (YSS—Y) | Youth | 3,553 | 4 | 0.083 | 1180
Cultural Competence Practices Study (Focus Groups—Y) | Youth | 36 | 1 | 1.500 | 54
Cultural Competence Practices Study (Focus Groups—P) | Provider | 60 | 1 | 1.500 | 90
Treatment Effectiveness Study
Diagnostic Interview Schedule for Children (DISC—Predictive Scales) | Caregiver | 262 | 1 | 1.000 | 262
Conflict Behavior Questionnaire (CBQ) | Caregiver | 240 | 4 | .167 | 160
Family Assessment Measure (FAM) | Caregiver | 240 | 4 | .250 | 240
Therapeutic Alliance Scale—caregiver (TAS) | Caregiver | 240 | 3 | .167 | 120
Ohio Scales (caregiver) | Caregiver | 240 | 4 | .250 | 240
Therapy Adherence Form—Revised | Caregiver | 240 | 1 | .167 | 40
Therapeutic Alliance Scales—youth (TAS-Y) | Youth | 192 | 4 | .167 | 128
Ohio Scales—youth | Youth | 192 | 4 | .250 | 192
Evidence-Based Practices Provider Attitudes Scale | Provider | 50 | 1 | .083 | 4
Family Education and Support Study
Beck Depression Inventory (BDI) | Caregiver | 300 | 3 | .117 | 105
Parenting Sense of Competence Scale (PSOC) | Caregiver | 300 | 3 | .167 | 150
Alabama Parenting Questionnaire (APQ) | Caregiver | 300 | 3 | .117 | 105
Duke Social Support Scale | Caregiver | 300 | 3 | .067 | 60
Vanderbilt Mental Health Services Self-Efficacy Questionnaire | Caregiver | 300 | 3 | .050 | 45
FES—Focus groups | Caregiver | 54 | 1 | 1.500 | 81
FES—Focus groups | Provider | 54 | 1 | 1.500 | 81
FES—Interview | Provider/Administrator | 12 | 1 | 1.000 | 12
Primary Care Provider Study
Primary Care Provider Survey | Provider | 540 | 1 | .500 | 270
Sustainability Study
Sustainability Survey—Caregiver | Caregiver ¹² | 27 | 2 | 0.500 | 27
Sustainability Survey—Provider | Provider/Administrator ¹² | 81 | 2 | 0.500 | 81

| Number of distinct respondents | Number of responses per respondent | Average 3-year burden per response (hours) | Total burden (hours)
Summary of Annualized Burden Estimates for 3 Years
Caregivers | 5,922 | 1.13 | 2.08 | 13,954
Youth | 3,553 | 1.19 | 1.00 | 4,220
Provider/Administrators | 648 | .542 | 1.90 | 669
Total Summary | 10,123 |  |  | 18,844
Total Annual Average Summary | 3,374 |  |  | 6,281
¹ An average of 24 stakeholders in up to 27 grantee sites will complete the System of Care Assessment interview. These stakeholders will include site administrative staff, providers, agency representatives, family representatives, youth and youth coordinators.
² Assuming the average annual income across all types of staff/service providers/administrators is $40,000, the wage rate was estimated using the following formula: $40,000 (annual income)/2080 (hours worked per year) = $19.25 (dollars per hour).
³ Number of respondents across 27 grantees. Average based on a 5 percent attrition rate at each data collection point. These data are collected as part of the grantees' routine intake processes. Hence, burden is calculated only for the subset of the Cross-Sectional Descriptive Study sample that also participates in the Child and Family Outcome Study.
⁴ Given that 65 percent of the families in the Phase III evaluation sample fall at or below the 2005 DHHS National Poverty Level of $19,350 (based on family of four), the wage rate was estimated using the following formula: $19,350 (annual family income)/2080 (hours worked per year) = 9.30 (dollars per hour).
⁵ Average number of responses per respondent based on 6 data collection points for children recruited in year 3, 4 for children recruited in year 4, 2 for children recruited in year 5 (of grantee funding).
⁶ Estimated number of caregivers with children over age 5, based on Phase IV preliminary needs-assessment that 95 percent of children served will be over age 5.
⁷ Estimated number of caregivers with children under age 12, based on Phase IV preliminary needs-assessment that 40 percent of children served will be under age 12.
⁸ Based on Phase III finding that approximately 60 percent of the children in the evaluation were 11 years old or older.
⁹ Based on the Federal minimum wage rate of $5.15 per hour.
¹⁰ Respondents only complete Service Experience Study measures at follow-up points. Average number of follow-up responses per respondent based on 6 follow-up data collection points for children recruited in year 3, 4 for children recruited in year 4, and 2 for children recruited in year 5 (of grantee funding).
¹¹ Assuming the average annual income across all types of staff/service providers is $31,200, the wage rate was estimated using the following formula: $31,200 (annual income)/2080 (hours worked per year) = $15.00 (dollars per hour).
¹² 25 respondents will be caregiver and 75 respondents will be administrators/providers.

Written comments and recommendations concerning the proposed information collection should be sent May 7, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: April 3, 2007
Elaine Parry,
Acting Director, Office of Program Services.

[FR Doc. E7-6481 Filed 4-5-07; 8:45 am]

BILLING CODE 4162-20-P